NATIONAL CREDIT UNION ADMINISTRATION

Sunshine Act; Meeting Notice; Matter To Be Deleted From the Agenda of a Previously Announced Agency Meeting

TIME AND DATE: 11:30 a.m., Thursday, January 13, 2011.

PLACE: Board Room, 7th Floor, Room 7047, 1775 Duke Street, Alexandria, VA 22314-3428.

STATUS: Closed.

1. MATTER TO BE DELETED: Insurance Appeals. Closed pursuant to exemptions (4), (6) and (7).

FOR FURTHER INFORMATION CONTACT: Mary Rupp, Secretary of the Board, Telephone: 703-518-6304.

Mary Rupp,
Board Secretary.

[FR Doc. 2011-596 Filed 1-10-11; 11:15 am]

BILLING CODE P